DEPARTMENT OF THE INTERIOR

Bureau of Land Management

[LLORV00000.L10200000.DD0000; HAG 9-0373]

Southeast Oregon Resource Advisory Council

AGENCY: Bureau of Land Management, Interior.

ACTION: Southeast Oregon Resource Advisory Council.

SUMMARY: Pursuant to the Federal Land Policy and Management Act and the Federal Advisory Committee Act, the U.S. Department of the Interior, Bureau of Land Management (BLM) Southeast Oregon Resource Advisory Council (SEORAC) will meet as indicated below:

DATES: The SEORAC meeting will begin 8 a.m. PST on November 10, 2009.

ADDRESSES: The SEORAC will meet at the Burns District Office Conference Room, 28910 Highway 20 West, Hines, Oregon 97738.

FOR FURTHER INFORMATION CONTACT: Mark Wilkening, 100 Oregon Street, Vale, Oregon 97918, (541) 473-6218 or e-mail mark_wilkening@blm.gov.

SUPPLEMENTARY INFORMATION: The business meeting will take place on November 10, 2009 at the Burns District Office Conference Room, 28910 Highway 20 West, Hines Oregon, from 8 a.m.to 4 p.m. The meeting may include such topics as New Member Orientation, Election of Officers, 2010 SEORAC Work Plan, BLM Energy Project Team Status Report, Updates on Lakeview and Southeast Oregon Resource Management Plans, Fremont-Winema Travel Subcommittee, Phase II Blue Mountain Forest Plan revision, litigation updates, an update on the BLM sagebrush/sage-grouse teams, and other matters as may reasonably come before the council. The public is welcome to attend all portions of the meeting and may make oral comments to the Council at 1 p.m. on November 10, 2009. Those who verbally address the SEORAC are asked to provide a written statement of their comments or presentation. Unless otherwise approved by the SEORAC Chair, the public comment period will last no longer than 15 minutes, and each speaker may address the SEORAC for a maximum of five minutes. If reasonable accommodation is required, please contact the BLM Vale District Office at (541) 473-6213 as soon as possible.

Dated: September 30, 2009.
David R. Henderson,
Vale District Manager.

[FR Doc. E9-24322 Filed 10-7-09; 8:45 am]

BILLING CODE 4310-33-P